DEPARTMENT OF TRANSPORTATION

Federal Aviation Administration

14 CFR Part 39

[Docket No. FAA-2013-0446; Product Identifier 2010-SW-007-AD; Amendment 39-19498; AD 2013-21-05R1]

RIN 2120-AA64

Airworthiness Directives; Airbus Helicopters Deutschland GmbH (Previously Eurocopter Deutschland GmbH) Helicopters

AGENCY: Federal Aviation Administration (FAA), DOT.

ACTION: Final rule.

SUMMARY: We are revising Airworthiness Directive (AD) 2013-21-05 for Eurocopter Deutschland GmbH (now Airbus Helicopters Deutschland GmbH) (Airbus Helicopters) Model EC135 P1, P2, P2+, T1, T2, and T2+ helicopters. AD 2013-21-05 required an initial and repetitive inspections of certain bearings and modifying the floor and a rod. Since we issued AD 2013-21-05, we have determined that modifying the floor and rod removes the unsafe condition. This AD retains the requirements of AD 2013-21-05 but removes the repetitive inspections. The actions of this AD are intended to prevent an unsafe condition on these products.

DATES: This AD is effective December 21, 2018.

The Director of the Federal Register approved the incorporation by reference of a certain publication listed in this AD as of December 5, 2013 (78 FR 65169, October 31, 2013).

ADDRESSES: For service information identified in this final rule, contact Airbus Helicopters, 2701 N Forum Drive, Grand Prairie, TX 75052; telephone (972) 641-0000 or (800) 232-0323; fax (972) 641-3775; or at http://www.airbushelicopters.com/website/technical-expert/. You may view this referenced service information at the FAA, Office of the Regional Counsel, Southwest Region, 10101 Hillwood Pkwy., Room 6N-321, Fort Worth, TX 76177. It is also available on the internet at http://www.regulations.gov by searching for and locating Docket No. FAA-2013-0446.

Examining the AD Docket

You may examine the AD docket on the internet at http://www.regulations.gov in Docket No. FAA-2013-0446; or in person at Docket Operations between 9 a.m. and 5 p.m., Monday through Friday, except Federal holidays. The AD docket contains this AD, the European Aviation Safety Agency (EASA) AD, any incorporated-by-reference information, the economic evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Discussion

We issued a notice of proposed rulemaking (NPRM) to amend 14 CFR part 39 to remove AD 2013-21-05, Amendment 39-17629 (78 FR 65169, October 31, 2013) (AD 2013-21-05) and add a new AD. AD 2013-21-05 applied to Eurocopter Deutschland GmbH (now Airbus Helicopters) Model EC135 P1, P2, P2+, T1, T2, and T2+ helicopters with bearing part number (P/N) LN9367GE6N2; rod P/N L671M5040205; lever P/N L671M5040101; and floor P/N L533M1014101, L533M1014102, L533M1014103, L533M1014104, L533M1014105 or L533M1014106 installed. AD 2013-21-05 required inspecting each bearing for freedom of movement within 100 hours time-in-service (TIS) and thereafter at intervals not to exceed 800 hours TIS. AD 2013-21-05 also required modifying the floor and modifying and re-identifying the rod with a new P/N. The NPRM published in the Federal Register on April 2, 2018 (83 FR 13883). The NPRM was prompted by AD No. 2006-0318R2, dated April 25, 2017, issued by EASA, which is the Technical Agent for the Member States of the European Union, issued to correct an unsafe condition for all Eurocopter Model EC 135 helicopters. EASA determined, based on a review of data and operator feedback, that repetitive inspections are not required for helicopters with the modified rod and floor. EASA accordingly revised its AD to remove the repetitive inspections.

Accordingly, the NPRM proposed to retain the requirements of AD 2013-21-05 but remove the repetitive inspections. The proposed actions were intended to detect and prevent the binding of a bearing, which could lead to loss of helicopter control.

Comments

We gave the public the opportunity to participate in developing this AD, but we received no comments on the NPRM.

FAA's Determination

These helicopters have been approved by the aviation authority of Germany and are approved for operation in the United States. Pursuant to our bilateral agreement with Germany, EASA, its technical representative, has notified us of the unsafe condition described in its AD. We are issuing this AD because we evaluated all information provided by EASA and determined that an unsafe condition exists and is likely to exist or develop on other helicopters of these same type designs and that air safety and the public interest require adopting the AD requirements as proposed.

Differences Between This AD and the EASA AD

The EASA AD sets compliance times from its original effective date of October 20, 2006, and this AD does not. This AD requires modifying each rod within 100 hours TIS, rather than within 800 hours TIS as specified in the EASA AD. This AD does not require contacting Eurocopter customer support, unlike the EASA AD. Finally, this AD does not apply to Airbus Helicopters Model EC635 T1, EC635 P2+, and EC635 T2+ helicopters because they have no FAA type certificate.

Related Service Information Under 1 CFR Part 51

We reviewed Eurocopter Alert Service Bulletin EC135-67A-012, Revision 1, dated October 18, 2006 (ASB Rev 1), which specifies repetitively inspecting the bearing of the linear transducer for freedom of movement and the lower side of the floor for chafing or damage. If there is binding, ASB Rev 1 specifies replacing the bearing. If there is chafing or damage on the floor, ASB Rev 1 specifies replacing the bearing and repairing the floor. ASB Rev 1 also specifies modifying and re-identifying a certain rod.

This service information is reasonably available because the interested parties have access to it through their normal course of business or by the means identified in the ADDRESSES section.

Other Related Service Information

We also reviewed Airbus Helicopters Alert Service Bulletin EC135-67A-012, Revision 2, dated April 3, 2017 (ASB Rev 2). ASB Rev 2 states that the repetitive inspection has been added to the helicopter maintenance manual. The repetitive inspection is therefore removed, and ASB Rev 2 requires no action. ASB Rev 1 is attached to ASB Rev 2 as an Appendix.

Costs of Compliance

We estimate that this AD affects 304 helicopters of U.S. Registry and that labor costs average $85 a work hour. We estimate it takes about 10 work-hours to inspect the bearing, and no parts or materials are required, for a cost of $850 per helicopter and $258,400 for the U.S. fleet. If necessary, replacing the bearing requires 3 additional work-hours, and parts cost $50, for a cost of $305 per helicopter. Repairing the floor requires 3 additional work-hours and a minimal cost for materials, for a cost of $255 per helicopter.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction; and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-21-05, Amendment 39-17629 (78 FR 65169, October 31, 2013), and adding the following new AD:

2013-21-05R1 Airbus Helicopters Deutschland GmbH (Previously Eurocopter Deutschland GmbH): Amendment 39-19498; Docket No. FAA-2013-0446; Product Identifier 2010-SW-007-AD.

(a) Applicability

This AD applies to Model EC135 P1, P2, P2+, T1, T2, and T2+ helicopters, with bearing, part number (P/N) LN9367GE6N2; rod, P/N L671M5040205; lever, P/N L671M5040101; and floor, P/N L533M1014101, L533M1014102, L533M1014103, L533M1014104, L533M1014105 or L533M1014106, installed, certificated in any category.

(b) Unsafe Condition

This AD defines the unsafe condition as limited control of a tail rotor because of the binding of a bearing. This condition could result in subsequent loss of control of the helicopter.

(c) Affected ADs

This AD replaces AD 2013-21-05, Amendment 39-17629 (78 FR 65169, October 31, 2013).

(d) Effective Date

This AD becomes effective December 21, 2018.

(e) Compliance

You are responsible for performing each action required by this AD within the specified compliance time unless it has already been accomplished prior to that time.

(f) Required Actions

(1) Within 100 hours time-in-service (TIS), inspect each bearing for freedom of movement by turning and tilting the bearing as depicted in Figure 2 of Eurocopter Alert Service Bulletin No. EC135-67A-012, Revision 1, dated October 18, 2006 (ASB). During any inspection:

(i) If there is binding or rough turning, before further flight, replace the bearing with an airworthy bearing.

(ii) If there is chafing on the lower side of the floor that does not extend through the panel outer layer, before further flight, replace the bearing with an airworthy bearing.

(iii) If there is damage on the lower side of the floor in the area of the assembly opening that extends through the panel outer layer (revealing an open honeycomb cell or layer), before further flight, replace the bearing with an airworthy bearing and repair the floor.

(2) After performing the actions in paragraphs (f)(1)(i) through (iii) of this AD, before further flight, install a Teflon strip and identify the floor by following the Accomplishment Instructions, paragraphs 3.E.(1) through 3.E.(4), of the ASB.

(3) Within 100 hours TIS, modify and re-identify the rod as depicted in Figure 1 of the ASB and by following the Accomplishment Instructions, paragraphs 3.H.(1) through 3.H.(3)(f), of the ASB.

(g) Alternative Methods of Compliance (AMOCs)

(1) The Manager, Safety Management Section, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Airbus Helicopters Alert Service Bulletin No. EC135-67A-012, Revision 2, dated April 3, 2017, which is not incorporated by reference, contains additional information about the subject of this AD. For service information identified in this AD, contact Airbus Helicopters, 2701 N. Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy., Room 6N-321, Fort Worth, TX 76177.

(2) The subject of this AD is addressed in European Aviation Safety Agency (EASA) AD No. 2006-0318R2, dated April 25, 2017. You may view the EASA AD on the internet at http://www.regulations.gov in the AD Docket.

(i) Subject

Joint Aircraft Service Component (JASC) Code: 6720, Tail Rotor Control System.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 5, 2013 (78 FR 65169, October 31, 2013).

(i) Eurocopter Alert Service Bulletin No. EC135-67A-012, Revision 1, dated October 18, 2006.

(ii) [Reserved]

(4) For Airbus Helicopters service information identified in this AD, contact Airbus Helicopters, 2701 N Forum Drive, Grand Prairie, TX 75052; telephone (972) 641-0000 or (800) 232-0323; fax (972) 641-3775; or at http://www.helicopters.airbus.com/website/en/ref/Technical-Support_73.html.

(5) You may view this service information at FAA, Office of the Regional Counsel, Southwest Region, 10101 Hillwood Pkwy., Room 6N-321, Fort Worth, TX 76177. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on November 7, 2018.
James A. Grigg,
Acting Director, Compliance & Airworthiness Division, Aircraft Certification Service.

[FR Doc. 2018-24989 Filed 11-15-18; 8:45 am]

BILLING CODE 4910-13-P